DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Secrecy, License to Export.

Form Number(s): N/A.

Agency Approval Number: 0651-0034.

Type of Request: Extension of a currently approved collection.

Burden: 1,298 hours annually.

Number of Respondents: 1,862 responses per year. Of this total, the USPTO expects that approximately 6 per year for petition for rescission of secrecy order, 3 per year for permit to disclose or modification of secrecy order, 1 per year for general and group permits, 1,625 per year for petition for foreign filing license without a corresponding application on file, 128 per year for petition for foreign filing with a corresponding U.S. application on file, and 99 per year for a petition for retroactive license will be filed.

Avg. Hours Per Response: It is estimated to take an average of 3.0 hours for permit for rescission of secrecy order; 2.0 hours for permit to disclose or modification of secrecy order; 1.0 hours for general and group permits; 0.5 hours each for foreign filing license: petition for foreign filing license without a corresponding United States application, and petition for license with a corresponding United States patent; and 4.0 hours for a petition for retroactive license for the public to gather, prepare and submit the various petitions.

Needs and Uses: In the interest of national security, patent laws and rules place certain limitations on the disclosure of information contained in patents and patent applications and on the filing of applications for patents in foreign countries. When an invention is determined to be detrimental to national security, the Commissioner of Patents must issue a secrecy order and withhold the grant of a patent for such period as the national interest requires. The USPTO collects information to determine whether the patent laws and rules have been complied with, and to grant or revoke licenses to file abroad when appropriate. This collection of information is required by 35 U.S.C. 181-188 and administered through 37 CFR Ch. 1, Part 5, 5.1-5.3. There are no forms associated with this collection of information.

Affected Public: Individuals or households; business or other for-profit; not-for-profit institutions; farms; the federal Government; and state, local or tribal Government.

Frequency: On occasion.

Respondent's Obligation: Required to obtain or retain benefits.

OMB Desk Officer: David Rostker, (202) 395-3897.

Copies of the above information collection proposal can be obtained by calling or writing Susan K. Brown, Records Officer, Office of Data Management, Data Administration Division, (703) 308-7400, USPTO, Suite 310, 2231 Crystal Drive, Washington, DC 20231, or by e-mail at susan.brown@uspto.gov.

Written comments and recommendations for the proposed information collection should be sent on or before January 11, 2001 to David Rostker, OMB Desk Officer, Room 10202, New Executive Office Building, Washington, DC 20503.

Dated: December 1, 2000.
Susan K. Brown,
Records Officer, USPTO, Office of Data Management, Data Administration Division.

[FR Doc. 00-31505 Filed 12-11-00; 8:45 am]

BILLING CODE 3510-16-P